DEPARTMENT OF THE TREASURY

Office of the Comptroller of the Currency

[OCC Charter Number 706591]

Commonwealth Bank, F.S.B., Mt. Sterling, Kentucky; Approval of Conversion Application

Notice is hereby given that on March 31, 2015, the Office of the Comptroller of the Currency (OCC) approved the application of Commonwealth Bank, F.S.B., Mt. Sterling, Kentucky, to convert to the stock form of organization. Copies of the application are available for inspection on the OCC Web site at the FOIA Electronic Reading Room https://foia-pal.occ.gov/palMain.aspx. If you have any questions, please call OCC Licensing Activities at (202) 649-6260.

Dated: March 31, 2015.
By the Office of the Comptroller of the Currency.
Stephen A. Lybarger,
Deputy Comptroller for Licensing.

[FR Doc. 2015-07869 Filed 4-6-15; 8:45 am]

BILLING CODE CODE 4810-33-P